DEPARTMENT OF TRANSPORTATION

Maritime Administration

[Docket Number MARAD-2001-9615]

Requested Administrative Waiver of the Coastwise Trade Laws

AGENCY: Maritime Administration, Department of Transportation.

ACTION: Invitation for public comments on a requested administrative waiver of the Coastwise Trade Laws for the vessel ISABELLA.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR Part 388 (65 FR 6905; February 11, 2000) that the issuance of the waiver will have an unduly adverse effect on a U.S.-vessel builder or a business that uses U.S.-flag vessels, a waiver will not be granted.

DATES: Submit comments on or before June 8, 2001.

ADDRESSES: Comments should refer to docket number MARAD-2001-9615. Written comments may be submitted by hand or by mail to the Docket Clerk, U.S. DOT Dockets, Room PL-401, Department of Transportation, 400 7th St., SW, Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW, Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR § 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR Part 388.

Vessel Proposed for Waiver of the U.S.-build Requirement

(1) Name of vessel and owner for which waiver is requested. Name of vessel: Isabella. Owner: A B Creel, LLC.

(2) Size, capacity and tonnage of vessel. According to the applicant: “Length 58 feet, Breadth 16.1 feet, Depth 11.7 feet, Gross Tons 54, Net Tons 49, Measurement pursuant to 46 U.S.C. 14502”

(3) Intended use for vessel, including geographic region of intended operation and trade. According to the applicant: “Vessel will be used for six to twelve passenger charters. Vessels' intended market is corporate charters for full day sails and meetings and overnight or weekend charters for one or two couples. Areas will be out of Fajardo, Puerto Rico and local islands, Culebra and Vieques November through June and the mid-Chesapeake Bay and local waters July through October.”

(4) Date and Place of construction and (if applicable) rebuilding. Date of construction: 1997. Place of construction: Kaohsiung Hsien Taiwan, Republic of China.”

(5) A statement on the impact this waiver will have on other commercial passenger vessel operators. According to the applicant: “Fajardo, Puerto Rico. The industry in Puerto Rico is limited to sports fishing vessels, large multi-hulls, bare boats, and a single mono-hull vessel of which I am aware. There will be no impact on the sports fishing vessels. There will be no impact on the large multi-hulls as these are big catamarans, which * * * take out large groups * * * for hotel guests. There is no impact on the bare boat charter fleet as they are all foreign manufactured vessels and are strictly for rent with the renter being the captain. The single mono-hull in the same area is overbooked most of the time and turns down enough charters that the overflow to my vessel alone would keep me in business with out competing for customers. * * * There are no other vessels like the one I operate in Puerto Rico and there is a high demand, since most vessels of my size and quality charter out of the U.S. or British Virgin islands * * * If my analysis of this market is as accurate * * * I alone will not be able to fill the demand and my presence will not unduly adversely affect existing operations * * *

Chesapeake Bay: I intend my primary base to be in the Solomon Island area of the Chesapeake Bay. There are some very large day sail vessels in the Norfolk area and the Baltimore and Annapolis area of the bay however these are mostly to take out large groups 20 to 100 on harbor tours. Other area interests are powerboat harbor tours, ferry boats, or bare boats none of which will be competing for the same customer base. In my inquiries I have found no other crewed vessels in the area, which will compete, for the same clientele * * * My presence in this market area will not unduly adversely affect other commercial passenger vessels.”

(6) A statement on the impact this waiver will have on U.S. shipyards. According to the applicant: “For over five years I searched intently for the vessel I would choose to charter. * * * I found that less than one percent of the yachts in the 50 ton category are U.S. manufactured, and of those which are supposedly U.S. manufactured many have the subcomponents including hulls manufactured in foreign countries and only the final assemble is done in the U.S. * * * The fact that no U.S. shipyard is manufacturing this vessel or a similar design with a deck salon would indicate that the presence of this vessel does not unduly adversely affect U.S. shipyards. * * * As a practicable matter this vessel, which was not available in the U.S., was delivered into the U.S. and commissioned entirely by U.S. labor in U.S. yards with U.S. purchased components, which amounted to about 1/6 the cost of the vessel. Every year thousands of dollars in yard work and slip fees are paid by this vessel to U.S. shipyards. This will continue for the life of the vessel as long as it is U.S. flagged. I can only view this as a positive impact to U.S. shipyards that otherwise would not have enjoyed any revenue from this vessel.”

Dated: May 3, 2001.
By Order of the Maritime Administrator.
Joel C. Richard,
Secretary, Maritime Administration.

[FR Doc. 01-11709 Filed 5-8-01; 8:45 am]

BILLING CODE 4910-81-P